DEPARTMENT OF DEFENSE

Office of the Secretary

[Transmittal No. 23-0O]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0O.

Dated: November 1, 2024.
Stephanie J. Bost,
Alternate OSD Federal Register Liaison Officer, Department of Defense.

BILLING CODE 6001-FR-P

BILLING CODE 6001-FR-C

Transmittal No. 23-0O

REPORT OF ENHANCEMENT OR UPGRADE OF SENSITIVITY OF TECHNOLOGY OR CAPABILITY (SEC. 36(B)(5)(C), AECA)

(i) Purchaser: Government of the Republic of Korea

(ii) Sec. 36(b)(1), AECA Transmittal No.: 20-23

Date: April 10, 2020

Implementing Agency: Air Force

(iii) Description: On April 10, 2020, Congress was notified by Congressional certification transmittal number 20-23, of the possible sale, under Section 36(b)(1) of the Arms Export Control Act, of follow-on support and services for the Republic of Korea's F-35 aircraft, engines, and weapons; publications and technical documentation; support equipment; spare and repair parts; repair and return; test equipment; software delivery and support; pilot flight equipment; personnel training equipment; U.S. Government and contractor technical and logistics support services; and other related elements of program support. The estimated total cost was $675 million. There was no Major Defense Equipment (MDE) included.

This transmittal notifies the addition of the following non-MDE items: continued Contractor Logistics Support (CLS) for the F-35 program; electronic warfare (EW) data and Reprogramming Lab support; Cartridge Actuated Devices/Propellant Actuated Devices (CAD/PAD); classified software development, delivery, and support; aircraft engine Component Improvement Program (CIP) support; transportation support; and engineering technical assistance. No MDE is being added to this case. The estimated total value of the new non-MDE items is $565 million, however only a net increase in total non-MDE of $545 million is required. The estimated total case value will increase to $1.22 billion.

(iv) Significance: The proposed sale will sustain the Republic of Korea's F-35 fleet readiness and increase aircraft reliability and maintainability.

(v) Justification: This proposed sale will support the foreign policy goals and national security objectives of the United States by improving the security of a major ally that is a force for political stability and economic progress in the Indo-Pacific region.

(vi) Sensitivity of Technology:

The Electronic Warfare Reprogramming Lab is used by USG engineers in the reprogramming and creation of shareable Mission Data Files for foreign F-35 customers.

The highest level of classification of defense articles, components, and services included in this potential sale is SECRET.

(vii) Date Report Delivered to Congress: September 21, 2023

[FR Doc. 2024-25822 Filed 11-5-24; 8:45 am]

BILLING CODE 6001-FR-P